DEPARTMENT OF TRANSPORTATION

Pipeline and Hazardous Materials Safety Administration

49 CFR Part 173

Shippers—General Requirements for Shipments and Packagings

CFR Correction

In Title 49 of the Code of Federal Regulations, parts 100 to 185, revised as of October 1, 2005, on page 584, § 173.302a is corrected by reinstating the second sentence of paragraph (d) to read as follows:

§ 173.302a Additional requirements for shipment of nonliquefied (permanent) compressed gases in specification cylinders.

* * * * *

(d) * * * The maximum filling density of the diborane may not exceed 7 percent.* * *

* * * * *

[FR Doc. 06-55531 Filed 12-15-06; 8:45 am]

BILLING CODE 1505-01-D